DEPARTMENT OF ENERGY

Federal Energy Regulatory Commission

[Docket No. CP15-490-000, CP15-490-001]

Delfin LNG, LLC; Notice of Scoping for the Proposed Delfin LNG Project and Request for Comments on Environmental Issues

The Federal Energy Regulatory Commission (FERC or Commission) is cooperating with the U.S. Coast Guard (Coast Guard), the lead federal agency for environmental review of the Delfin LNG Project. This proposal involves the construction and operation of an offshore liquefied natural gas (LNG) deepwater port (under the jurisdiction of the Coast Guard and the Maritime Administration) and associated pipeline facilities, including about 1.1 mile of onshore pipeline and aboveground facilities under the Commission's jurisdiction. FERC staff is assisting the Coast Guard in its preparation of an environmental impact statement (EIS) that will discuss the environmental impacts of the Delfin LNG Project. This cooperative effort is to comply with the National Environmental Policy Act of 1969 (NEPA), which requires the Commission to take into account the environmental impact that could result from an action whenever it considers the issuance of a Certificate of Public Convenience and Necessity under section 7 of the Natural Gas Act.

NEPA requires the FERC to discover and address concerns the public may have about proposals under its review. This process is referred to as “scoping.” On November 19, 2015, Delfin LNG, LLC (Delfin LNG) amended its application with the FERC regarding the proposed aboveground facilities. Thus, the FERC is opening a scoping period to solicit input from the public and interested agencies limited to the proposed onshore pipeline and related facilities (i.e., those under FERC jurisdiction) in Cameron Parish, Louisiana. You can make a difference by providing us ¹ with your specific comments or concerns about the project. Your comments should focus on the potential environmental effects, reasonable alternatives, and measures to avoid or lessen environmental impacts. Your input will help determine which issues need to be evaluated in the EIS.² Please note that the scoping period will close on January 28, 2016, and comments should be limited to the onshore facilities described in this amended docket. Details on how to submit comments are provided in the Public Participation section of this notice.

¹ “We,” “us,” and “our” refers to environmental staff of the Office of Energy Projects.

² For more information on the original and amended Delfin LNG Project or the Coast Guard's EIS process, see the July 29, 2015 edition of the Federal Register, page 45,270, and the December 24, 2015 edition of the Federal Register, page 80,455 “Deepwater Port License Application: Delfin LNG LLC, Delfin LNG Deepwater Port” under Department of Transportation/Maritime Administration.

If you are a landowner receiving this notice, a pipeline company representative may contact you about the acquisition of an easement to construct, operate, and maintain the planned facilities. Delfin LNG would seek to negotiate a mutually acceptable agreement. However, if the Commission approves the project, that approval conveys with it the right of eminent domain. Therefore, if easement negotiations fail to produce an agreement, Delfin LNG could initiate condemnation proceedings where compensation would be determined in accordance with state law.

This notice is being sent to affected landowners; federal, state, and local government representatives and agencies; elected officials; Native American tribes; other interested parties; and local libraries and newspapers. State and local government representatives are asked to notify their constituents of this proposed project and to encourage them to comment on their areas of concern.³ If you received this notice, you are on the environmental mailing list for this project and will continue to receive project updates including the draft and final EISs.

³ Comments submitted during the Coast Guard's scoping period (July 29-September 28, 2015) for the project as originally proposed do not need to be resubmitted.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Summary of the Proposed Project (FERC Jurisdictional Facilities)

Delfin LNG proposes to activate the formerly abandoned U-T offshore system (UTOS) pipeline and construct new connecting pipelines, a compressor station, and appurtenant facilities the majority of which would be within the PSI Midstream Partners, L.P. (PSI) Cameron Meadows Gas Plant and adjacent Transcontinental Gas Pipe Line, LLC (Transco) Station 44 in Cameron Parish. The proposed facilities consist of:

• 1.1 miles of the existing onshore portion of the 42-inch-diameter UTOS pipeline from the landward side of the mean high water mark along the coast of Cameron Parish to just inside the boundary of Transco Station 44;

• a mainline block valve and blowdown site located south of Louisiana Highway 82;

• a new meter station and connecting piping within the Transco Station 44 site;

• a new 0.25-mile-long 42-inch-diameter pipeline to connect the UTOS line to the new meter station;

• new twin 0.6-mile-long 30-inch diameter header pipelines;

• a new compressor station consisting of:

four 30,000 horsepower (hp) Solar Tital 250 gas turbine-driven compressors;

four gas coolers;

three 600 kilowatt generators;

two control buildings, office and warehouse buildings; and

pig launcher and check meter.

The general location of the proposed onshore pipeline is shown in appendix 1.⁴

⁴ The appendix referenced in this notice will not appear in the Federal Register. Copies of the appendix were sent to all those receiving this notice in the mail and are available at www.ferc.gov using the link called “eLibrary” or from the Commission's Public Reference Room, 888 First Street NE., Washington, DC 20426, or call (202) 502-8371. For instructions on connecting to eLibrary, refer to page 5 of this notice.

Land Requirements for Construction

Approximately 19.4 acres of land would be affected by construction, with about 13.0 acres permanently impacted for operation. The construction right-of-way width for the three adjacent pipelines—the twin 0.6-mile, 30-inch-diameter header pipelines and the 0.25-mile 42-inch-diameter pipeline would be 120 feet wide, of which 70 feet would be retained as permanent right-of-way. The majority of aboveground facilities would be constructed within the existing fence lines of the Cameron Meadows Gas Plant and Transco Station 44.

Of the land effected by construction, approximately 36.4 percent is classified as industrial land use and approximately 35.9 percent is currently maintained in an herbaceous state. The remaining land comprises intermediate marsh, coastal dune shrub thicket, scrub/shrub swamp, and roads.

The EIS Process

NEPA requires the Commission to take into account the environmental impacts that could result from an action whenever it considers the issuance of a Certificate of Public Convenience and Necessity. NEPA also requires us to discover and address concerns the public may have about proposals. This process is referred to as “scoping.” The main goal of the scoping process is to focus the analysis in the EIS on the important environmental issues.

As mentioned previously, the Coast Guard is the lead federal agency preparing the EIS for the overall Delfin LNG Deepwater Port Project. According to the Maritime Administration's December 24, 2015 Notice of Receipt of Amended Application and Request for Comments, when a draft EIS is complete and ready for public review, the Maritime Administration will publish a Notice of Availability in the Federal Register to provide for a public comment period that include public meetings in Louisiana and Texas. FERC, as a cooperating agency will play an important role in developing the environmental analysis for the FERC-jurisdictional (onshore) facilities in the EIS. Thus, FERC staff will work with Coast Guard staff and contractors to ensure that the onshore facilities are thoroughly evaluated and that all scoping comments received as a result of this notice are addressed, as appropriate, in the EIS. Staff will also evaluate reasonable alternatives to the proposed project or portions of the project, and make recommendations on how to lessen or avoid impacts on various resource areas.

Public Participation

For your convenience, there are three methods you can use to submit your comments to the Commission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (CP15-490) with your submission: Kimberly D. Bose, Secretary, Federal Energy Regulatory Commission, 888 First Street NE., Room 1A, Washington, DC 20426.

Becoming an Intervenor

In addition to involvement in the EIS scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the “Document-less Intervention Guide” under the “e-filing” link on the Commission's Web site. Motions to intervene are more fully described at http://www.ferc.gov/resources/guides/how-to/intervene.asp.

Additional Information

Additional information about the project is available from the Commission's Office of External Affairs, at (866) 208-FERC, or on the FERC Web site at www.ferc.gov using the “eLibrary” link. Click on the eLibrary link, click on “General Search” and enter the docket number, excluding the last three digits in the Docket Number field (i.e., CP15-490). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: December 29, 2015.
Nathaniel J. Davis, Sr.,
Deputy Secretary.

[FR Doc. 2015-33123 Filed 1-4-16; 8:45 am]

BILLING CODE 6717-01-P